DEPARTMENT OF THE TREASURY

Internal Revenue Service

26 CFR Part 1

[TD 9031]

RIN 1545-BB02

Reduced Maximum Exclusion of Gain From Sale or Exchange of Principal Residence

Correction

In rule document 02-32280 beginning on page 78367 in the issue of Tuesday, December 24, 2002 make the following correction:

On page 78369, in the second column, under the heading “7. Effective Date”, in the third line, “December 24, 2003” should read, “December 24, 2002”.

[FR Doc. C2-32280 Filed 1-31-03; 8:45 am]

BILLING CODE 1505-01-D